DEPARTMENT OF HOUSING AND URBAN DEVELOPMENT

[Docket No. FR-5195-C-02]

Notice of Funding Opportunity (NOFA) for HOME Investment Partnership Program (HOME)—Competitive Reallocation of CHDO Funds To Provide for Energy Efficient and Environmentally-Friendly Housing for Low-Income Families; Correction

AGENCY: Office of the Assistant Secretary for Community Planning and Development, HUD.

ACTION: Notice of funding availability (NOFA), Correction.

SUMMARY: On May 16, 2008, HUD published its NOFA for the Competitive Reallocation of Community Housing Development Organizations (CHDO) Funds to Provide for Energy Efficient and Environmentally-Friendly Housing for Low-Income Families. Today's notice corrects the OMB control number as set out in the May 16, 2008 publication.

DATES: The application deadline date for the Competitive Reallocation of CHDO Funds to Provide for Energy Efficient and Environmentally-Friendly Housing for Low-Income Families NOFA remains as published in the Federal Register on May 16, 2008.

FOR FURTHER INFORMATION CONTACT: Ginger Macomber, Office of Affordable Housing Programs, Office of Community Planning and Development, Department of Housing and Urban Development, 451 Seventh Street, SW., Room 7240, Washington, DC 20410-7000; telephone 202-708-2684 (this is not a toll-free number). Persons with speech or hearing impairments may access this number through TTY by calling the toll-free Federal Income Relay Service at 1-800-877-8339.

SUPPLEMENTARY INFORMATION: On May 16, 2008 (73 FR 28664), HUD published its NOFA for the Competitive Reallocation of CHDO Funds to Provide for Energy Efficient and Environmentally-Friendly Housing for Low-Income Families. The NOFA announced the availability of approximately $1 million in deobligated HOME CHDO set-aside funds for competitive reallocation in order to expand the supply of energy efficient and environmentally-friendly (Green) housing that is affordable to low-income families, using design and technology models that can be replicated. Today's notice corrects the OMB control number as set out in the May 16, 2008 publication.

Accordingly, HUD is correcting its NOFA for the Competitive Reallocation of CHDO Funds to Provide for Energy Efficient and Environmentally-Friendly Housing for Low-Income Families published on May 16, 2008 (73 FR 28664), as follows:

On page 28665, Section I.H., first column, HUD is amending this paragraph to read as follows:

H. Paperwork Reduction Act Statement. The information collection requirements in this NOFA have been submitted to OMB under the Paperwork Reduction Act of 1995 (44 U.S.C. 3501-3520) and assigned OMB control number 2505-0178. Under the Paperwork Reduction Act, a federal agency may not conduct or sponsor, and a person is not required to respond to, a collection of information unless the collection displays a valid control number.

Dated: June 18, 2008.
Nelson R. Bregón,
General Deputy Assistant, Secretary for Community Planning and Development.

[FR Doc. E8-14289 Filed 6-24-08; 8:45 am]

BILLING CODE 4210-67-P